DEPARTMENT OF EDUCATION

34 CFR Part 361

State Vocational Rehabilitation Services Program; Delay of Effective Date

AGENCY: Department of Education.

ACTION: Final regulations; delay of effective date.

SUMMARY: In accordance with the memorandum of January 20, 2001 (66 FR 7702, January 24, 2001), from the Assistant to the President and Chief of Staff, entitled “Regulatory Review Plan,” this regulation temporarily delays the effective date of the regulations entitled State Vocational Rehabilitation Services Program published in the Federal Register on January 17, 2001 (66 FR 4380).

EFFECTIVE DATE: The effective date of the regulations amending 34 CFR Part 361 published at 66 FR 4380, January 17, 2001 is delayed for 60 days until April 17, 2001.

FOR FURTHER INFORMATION CONTACT: Kenneth C. Depew, Acting Assistant General Counsel for Regulations, Office of the General Counsel, U.S. Department of Education, 400 Maryland Avenue, SW., room 6E227, FB-6, Washington, DC 20202-2241. Telephone: (202) 401-8300.

If you use a telecommunications device for the deaf (TDD), you may call the Federal Information Relay Service (FIRS) at 1-800-877-8339.

Dated: January 26, 2001.
Rod Paige,
Secretary of Education.

[FR Doc. 01-2699 Filed 2-1-01; 8:45 am]

BILLING CODE 4000-01-P